DEPARTMENT OF COMMERCE

International Trade Administration

Notice of Scope Rulings

AGENCY: Enforcement and Compliance, International Trade Administration, Department of Commerce.

DATES: Effective October 7, 2016.

SUMMARY: The Department of Commerce (“Department”) hereby publishes a list of scope rulings and anticircumvention determinations made between October 1, 2015, and December 31, 2015, inclusive. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on March 17, 2016.² This current notice covers all scope rulings and anticircumvention determinations made by Enforcement and Compliance between October 1, 2015, and December 31, 2015, inclusive. Subsequent lists will follow after the close of each calendar quarter.

¹ See 19 CFR 351.225(o).

² See Notice of Scope Rulings, 81 FR 14421 (March 17, 2016).

Scope Rulings Made Between October 1, 2015 and December 31, 2015

People's Republic of China

A-570-967 and C-570-968: Aluminum Extrusions From the People's Republic of China

Requestor: Agilent Technologies, Inc.; Agilent's KF 16 Hose Adapter consists entirely of extruded aluminum. Therefore, it does not meet the definition of “finished merchandise” and is within the scope of the antidumping and countervailing duty orders; October 27, 2015.

A-570-967 and C-570-968: Aluminum Extrusions From the People's Republic of China

Requestor: Clam Corporation; aluminum spreader poles which may be used to support and stabilize the frames of various ice fishing shelters are outside the scope of the antidumping and countervailing duty orders; October 28, 2015.

A-570-967 and C-570-968: Aluminum Extrusions From the People's Republic of China

Requestor: Carrand Companies Inc.; wash poles that include two (2) aluminum poles of differing dimensions, a two-part polypropylene locking collar, foam comfort grips, a threaded polypropylene end for attachment of a garden hose, and a locking head mechanism or threaded tip (made of plastic or metal) that allows the Telescoping Wash Poles to be used with a variety of attachments are outside the scope of the antidumping and countervailing duty orders; November 4, 2015.

A-570-967 and C-570-968: Aluminum Extrusions From the People's Republic of China

Requestor: Immediate Response Technology; IRT Scissor Strut, IRT Scissor Strut—29” Tube with Holes, and IRT Scissor Strut—29” Tube without Holes products are within the scope of the antidumping and countervailing duty orders; November 18, 2015.

A-570-967 and C-570-968: Aluminum Extrusions From the People's Republic of China

Requestor: Dometic Corporation; lateral arm assemblies for supporting recreational vehicle awnings are “finished merchandise” and are outside the scope of the antidumping duty and countervailing duty orders; November 23, 2015.

A-5A-570-967 and C-570-968: Aluminum Extrusions From the People's Republic of China

Requestor: Delphi Tube and Block Assemblies; aluminum tube and block assemblies for automotive heating and cooling systems consist entirely of extruded aluminum. Therefore, they do not meet the definition of “finished merchandise” and are within the scope of the antidumping and countervailing duty orders; November 24, 2015.

A-570-967 and C-570-968: Aluminum Extrusions From the People's Republic of China

Requestor: Poolmaster, Inc.; Poolmaster's telescoping aluminum poles, aluminum skimmers, aluminum rakes and life hook are “finished merchandise” and are outside the scope of the antidumping and countervailing duty orders. Poolmaster's aluminum leaf skimmer kits, pool vacuums, spa vacuums and telescopic pole with brush are “finished goods kits” and are outside the scope of the antidumping and countervailing duty orders; November 24, 2015.

A-570-967 and C-570-968: Aluminum Extrusions From the People's Republic of China

Requestor: Liberty Hardware Manufacturing Co.; shower door kits including extruded aluminum frames and tracks, glass door panels, and assorted non-aluminum parts are “finished goods kits” and are outside the scope of the antidumping and countervailing duty orders; December 9, 2015.

A-570-967 and C-570-968: Aluminum Extrusions From the People's Republic of China

Requestor: Bridging China International Ltd.; telescoping pool poles comprising extruded aluminum tubing with non-aluminum components are “finished merchandise” outside the scope of the antidumping and countervailing duty orders; December 28, 2015.

A-570-018 and C-570-019: Boltless Steel Shelving Units Prepackaged for Sale From the People's Republic of China

Requestor: Rankam VDG Industries Ltd. and Rankam (China) Manufacturing Co. Ltd. (collectively, “Rankam”); Rankam's four bolted steel shelving units are outside the scope of the orders because the shelving units require bolts to assemble and hold the units upright in a fixed, weight-loading position; December 3, 2015.

A-570-018 and C-570-019: Boltless Steel Shelving Units Prepackaged for Sale From the People's Republic of China

Requestor: ACCO Brands USA LLC (“ACCO”); ACCO's locker shelves are outside the scope of the orders because the decking is necessary for the structural integrity of the unit; December 10, 2015.

A-570-901: Certain Lined Paper Products From the People's Republic of China

Requestor: DaySpring Cards, Inc.; the “Live Beautifully” journal, a 10 inch by 7.5 inch journal that contains approximately 160 pages, is pre-printed with horizontal lines, contains inspirational quotes on each page, and whose cover is affixed to a text block made from a binders board and spine strip is outside the scope because it meets the exclusion criteria for printed books and other books that are case bound through the inclusion of binders board, a spine strip, and cover wrap; November 18, 2015.

A-570-504: Certain Petroleum Wax Candles From the People's Republic of China

Requestor: PriceSmart, Inc. (“PriceSmart”); PriceSmart's LED candles are outside the scope of the order because they have plastic wicks; October 9, 2015.

A-570-972: Certain Stilbenic Optical Brightening Agents From the People's Republic China

Requestor: Procter & Gamble; Products—Aako FB-71C and Fluorescent Brighter 351; P&G's Aako FB-71C meets the exclusion language of the Order, and P&G's Fluorescent Brighter 351 is not covered by the Order as it is not a triazinylaminostilbene or a derivative chemical; October 16, 2015.

A-570-010 and C-570-011: Crystalline Silicon Photovoltaic Products From the People's Republic of China

Requestor: Aireko Construction, LLC; solar modules assembled in the People's Republic of China using solar cells produced in the United States are within the scope of the antidumping duty orders because the scope of these orders explicitly includes solar modules assembled in the People's Republic of China consisting of solar cells produced in a third-country; November 12, 2015.

A-570-970: Multilayered Wood Flooring From the People's Republic of China

Requestor: Jiangsu Keri Wood Co., Ltd.; Product—two-layer engineered wood flooring; Keri's two-layer wood flooring is not within the scope because it lacks the requisite “two or more layers of plies of wood veneer in combination with a core”; October 16, 2015.

A-570-970: Multilayered Wood Flooring From the People's Republic of China

Requestor: Zhejiang Fuma Warm Technology Co., Ltd.; Product—two-layer engineered wood flooring; Fuma's two-layer wood flooring is not within the scope because it lacks the requisite “two or more layers of plies of wood veneer in combination with a core”; October 16, 2015.

A-570-886: Polyethylene Retail Carrier Bags From the People's Republic of China

Requestor: Grand A International Company, Inc.; Certain bags identified as “Green T-Shirt Bags Reusable” are within the scope of the antidumping duty order on polyethylene carrier bags from the People's Republic of China; December 16, 2015.

A-570-928: Uncovered Innerspring Units From the People's Republic of China

Requestor: Leggett & Platt Incorporated; exports to the United States of uncovered innerspring units completed and assembled in Malaysia by Goldon Manufacturing Sdn. Bhd. from PRC-origin innerspring components are circumventing the antidumping duty order; November 30, 2015.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: September 22, 2016.
Christian Marsh,
Deputy Assistant Secretary for Antidumping and Countervailing Duty Operations.

[FR Doc. 2016-24357 Filed 10-6-16; 8:45 am]

BILLING CODE 3510-DS-P